DEPARTMENT OF HEALTH AND HUMAN SERVICES

Office of the Secretary

Public Meeting of the Federal Coordinating Council on Comparative Effectiveness Research

AGENCY: Office of the Secretary, HHS.

ACTION: Notice of public meeting.

SUMMARY: Authorized by the American Recovery and Reinvestment Act of 2009 (ARRA), the Federal Coordinating Council for Comparative Effectiveness Research will help coordinate research and guide investments in comparative effectiveness research funded by the Recovery Act. The Coordinating Council is holding this meeting to hear from the public about their views on the Council's activities.

DATES: The meeting, which is the third of three public meetings that the Coordinating Council expects to convene, will be held on Wednesday, June 10, 2009, from 12 p.m.-3 p.m. EDT.

ADDRESSES: The meeting will be held at the Embassy Suites Convention Center, 900 10th St., NW., Washington, DC 20001. In addition, the meeting will be Web cast and individuals may also participate by audioconference.

FOR FURTHER INFORMATION CONTACT: Patrick Conway, Office of the Secretary, HHS, Telephone: 202-690-7858; E-mail: Patrick.conway@hhs.gov.

SUPPLEMENTARY INFORMATION: The Coordinating Council will assist the agencies of the Federal government, including HHS, Departments of Veterans Affairs and Defense, as well as others, to coordinate comparative effectiveness and related health services research. The Coordinating Council also will provide input on priorities for the $400 million fund in the Recovery Act that the Secretary will allocate to advance this type of research.

The Coordinating Council will not recommend clinical guidelines for payment, coverage or treatment. The Coordinating Council will consider the needs of populations served by Federal programs and opportunities to build and expand on current investments and priorities.

Registration and Other Information About the Meeting: Individuals may participate in the meeting either by attending in person, viewing the meeting over the Internet, or by audioconference. Individuals may also nominate themselves to make a 3-minute statement before the Coordinating Council. In addition, individuals may submit written statements for the Coordinating Council's consideration, regardless of whether individuals are chosen to give an oral statement. The Coordinating Council does request that individuals nominating themselves to make an oral statement make every effort to be present to give their statement in person. However, to facilitate hearing as many different viewpoints as possible, consideration will be given to individuals who would make their oral statements via audioconference.

Oral statements, as well as written statements submitted for the Coordinating Council's consideration, should address the following kinds of questions:

• What types of investments in infrastructure for comparative effectiveness research should the Coordinating Council consider?

• What criteria should the Coordinating Council consider when evaluating different investment options?

• What Federal government activities in the area of comparative effectiveness research should the Coordinating Council focus its attention on?

• How can the Coordinating Council best foster integration of these activities across the programs managed by the Departments of Health and Human Services, Defense, and Veterans Affairs?

• What steps should the Coordinating Council consider to help ensure that public- and private-sector efforts in the area of comparative effectiveness research are mutually supportive?

• What information on the Coordinating Council's activities would be most useful?

The Office of the Secretary requests that interested persons register to participate and indicate (a) whether they will attend in person, view the Coordinating Council's meeting over the Internet, or listen by audioconference; (b) whether they are nominating themselves to give a 3-minute oral statement; and/or, (c) if they intend to submit a written statement for the Coordinating Council to consider. Per Section 3, “Ensuring Responsible Spending of Recovery Act Funds,” 74 FR 12531, 12533 (March 25, 2009), individuals who wish to make an oral statement will be asked to disclose whether they are registered lobbyists.

Individuals should register to participate no later than Monday, June 8, at 5 p.m., EDT. Due to time constraints, not everyone who volunteers to make an oral statement will be able to do so. However, all statements received will be considered by the Coordinating Council as part of their deliberations.

To register, go to http://www.hhs.gov/recovery/programs/CER/index.html. Individuals who do not register in advance will only be able to attend the meeting in person if space is available. Information on how to view the meeting over the Internet and participate by audioconference will be sent to registered participants in advance and posted on the Recovery.gov Web site on Tuesday, June 9, 2009. The number of audioconference lines for non-registered participants may be limited.

If sign language interpretation or other reasonable accommodation for a disability is needed, please contact Mr. Donald L. Inniss, Director, Office of Equal Employment Opportunity Program, Program Support Center, at (301) 443-1144.

Each public meeting is scheduled for a three-hour period, but will end sooner if participants have finished providing input before the time period expires. We are asking for input concerning specific topics as follows:

To help interested individuals prepare for the meetings, we invite review of the Act. The full text is set forth on the Internet at: http://www.gpoaccess.gov/plaws/(search for Pub. L. 111-50).

Also, the Office of the Secretary has an e-mail notification list to provide interested parties with automatic notification of relevant information posted on Recovery.gov and the HHS Web site (http://www.hhs.gov/recovery/programs/CER/index.html) concerning the Federal Coordinating Council. To be added to the e-mail notification list, send your e-mail address to CoordinatingCouncil@blseamon.com, and use the words “Add me to the list” in the subject line.

Dated: May 29, 2009.
Patrick Conway,
Executive Director, Federal Coordinating Council for Comparative Effectiveness Research.

[FR Doc. E9-13075 Filed 6-1-09; 4:15 pm]

BILLING CODE 4151-05-P